DEPARTMENT OF THE INTERIOR

National Park Service

[N6498; NPS-WASO-NAGPRA-NPS0040995; PPWOCRADN0-PCU00RP14.R50000]

Notice of Intended Disposition: Tennessee Valley Authority, Knoxville, TN

AGENCY: National Park Service, Interior.

ACTION: Notice.

SUMMARY: In accordance with the Native American Graves Protection and Repatriation Act (NAGPRA), the Tennessee Valley Authority intends to carry out the disposition of human remains and associated funerary objects removed from Federal or Tribal lands to the lineal descendants, Indian Tribe, or Native Hawaiian organization with priority for disposition in this notice.

DATES: Disposition of the human remains and associated funerary objects in this notice may occur on or after October 10, 2025. If no claim for disposition is received by September 10, 2026, the human remains and associated funerary objects in this notice will become unclaimed human remains and associated funerary objects.

ADDRESSES: Send written claims for disposition of the human remains and associated funerary objects in this notice to Megan Cook, NAGPRA Liaison, Cultural Resources, Tennessee Valley Authority, 400 West Summit Drive, Knoxville, TN 37902, email TVANAGPRA@tva.gov.

SUPPLEMENTARY INFORMATION: This notice is published as part of the National Park Service's administrative responsibilities under NAGPRA. The determinations in this notice are the sole responsibility of the Tennessee Valley Authority, and additional information on the human remains or cultural items in this notice, including the results of consultation, can be found in the related records. The National Park Service is not responsible for the identifications in this notice.

Abstract of Information Available

Based on the information available, human remains representing, at least, six individuals have been reasonably identified. The 16 lots of associated funerary objects include ceramics, faunal remains, lithics, and shell.

In 2017, 2019 and 2020, human remains and associated funerary objects were removed from the Mussel Camp site (01MG107), Morgan County, Alabama. The human remains and objects were removed as part of potential ARPA violation prosecutions and held as evidence until present. No known individuals were identified.

In 2019, human remains and associated funerary objects were removed from the Cypress Creek site (1LU12) and Colliers Cave site (1LU494), Lauderdale County, Alabama. The human remains and objects were removed as part of potential ARPA violation prosecutions and held as evidence until present. No known individuals were identified.

Determinations

The Tennessee Valley Authority has determined that:

• The human remains described in this notice represent the physical remains of six individuals of Native American ancestry.

• The 16 lots of objects described in this notice are reasonably believed to have been placed intentionally with or near individual human remains at the time of death or later as part of the death rite or ceremony.

• The Absentee Shawnee Tribe of Indians of Oklahoma; Alabama-Coushatta Tribe of Texas; Cherokee Nation; Coushatta Tribe of Louisiana; Eastern Band of Cherokee Indians; Eastern Shawnee Tribe of Oklahoma; Jena Band of Choctaw Indians; Kialegee Tribal Town; Poarch Band of Creek Indians; Shawnee Tribe; The Chickasaw Nation; The Choctaw Nation of Oklahoma; The Muscogee (Creek) Nation; The Seminole Nation of Oklahoma; Thlopthlocco Tribal Town; and the United Keetoowah Band of Cherokee Indians in Oklahoma have priority for disposition of the human remains and associated funerary objects described in this notice.

Claims for Disposition

Written claims for disposition of the human remains and associated funerary objects in this notice must be sent to the appropriate official identified in this notice under ADDRESSES. If no claim for disposition is received by September 10, 2026, the human remains and associated funerary objects in this notice will become unclaimed human remains and associated funerary objects. Claims for disposition may be submitted by:

1. Any lineal descendant, Indian Tribe, or Native Hawaiian organization identified in this notice.

2. Any lineal descendant, Indian Tribe, or Native Hawaiian organization not identified in this notice who shows that they have priority for disposition.

Disposition of the human remains and associated funerary objects in this notice may occur on or after October 10, 2025. If competing claims for disposition are received, the Tennessee Valley Authority must determine the most appropriate claimant prior to disposition. Claims for joint disposition of the human remains and associated funerary objects are considered a single claim and not competing claims. The Tennessee Valley Authority is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: August 21, 2025.
Melanie O'Brien,
Manager, National NAGPRA Program.

[FR Doc. 2025-17370 Filed 9-9-25; 8:45 am]

BILLING CODE 4312-52-P